SMALL BUSINESS ADMINISTRATION

[Disaster Declaration #12774 and #12775]

North Carolina Disaster # NC-00036

AGENCY: U.S. Small Business Administration.

ACTION: Notice.

SUMMARY: This is a Notice of the Presidential declaration of a major disaster for the State of North Carolina (FEMA-4019-DR), dated 08/31/2011.

Incident: Hurricane Irene.

Incident Period: 08/25/2011 and continuing.

Effective Date: 08/31/2011.

Physical Loan Application Deadline Date: 10/31/2011.

Economic Injury (EIDL) Loan Application Deadline Date: 05/31/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 08/31/2011, applications for disaster loans may be filed at the address listed above or other locally announced locations.

The following areas have been determined to be adversely affected by the disaster:

Primary Counties (Physical Damage and Economic Injury Loans): Beaufort, Carteret, Craven, Dare, Hyde, Pamlico, Tyrrell

Contiguous Counties (Economic Injury Loans Only): North Carolina:

Currituck, Jones, Lenoir, Martin, Onslow, Pitt, Washington.

The Interest Rates are:

| Percent
For Physical Damage:
Homeowners With Credit Available Elsewhere | 5.000
Homeowners Without Credit Available Elsewhere | 2.500
Businesses With Credit Available Elsewhere | 6.000
Businesses Without Credit Available Elsewhere | 4.000
Non-Profit Organizations With Credit Available Elsewhere | 3.250
Non-Profit Organizations Without Credit Available Elsewhere | 3.000
For Economic Injury:
Businesses & Small Agricultural Cooperatives Without Credit Available Elsewhere | 4.000
Non-Profit Organizations Without Credit Available Elsewhere | 3.000

The number assigned to this disaster for physical damage is 127748 and for economic injury is 127750

.

(Catalog of Federal Domestic Assistance Numbers 59002 and 59008).

James E. Rivera,
Associate Administrator for Disaster Assistance.

[FR Doc. 2011-22910 Filed 9-7-11; 8:45 am]

BILLING CODE 8025-01-P